FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 9, 2018.

A. Federal Reserve Bank of Dallas (Robert L. Triplett III, Senior Vice President) 2200 North Pearl Street, Dallas, Texas 75201-2272:

1. Jack Bankhead, Mary Bankhead, James H. Gill, and Lynn Eldridge Gill all of Dallas, Texas, Atticus J. Gill, Fort Worth, Texas, and Meredith Gill Johnson, El Dorado Hills, California together known as the Gill Family Group, a group acting in concert; to retain voting shares of City Bancshares, Inc. and thereby indirectly retain shares of City National Bank, both located in Corsicana, Texas.

Board of Governors of the Federal Reserve System, June 15, 2018.
Ann Misback,
Secretary of the Board.

[FR Doc. 2018-13275 Filed 6-20-18; 8:45 am]

BILLING CODE P